SMALL BUSINESS ADMINISTRATION

[License No. 09/09-5332]

Notice of Surrender of License

Notice is hereby given that First American Capital Funding, Inc. located at 10840 Warner Avenue, Suite 202, Fountain Valley, California 92708, has surrendered its license to operate as a small business investment company under the Small Business Investment Act of 1958, as amended (the Act). First American Capital Funding, Inc. was licensed by the Small Business Administration on May 2, 1984.

Under the authority vested by the Act and pursuant to the Regulations promulgated thereunder, the surrender was acted on this date, and accordingly, all rights, privileges and franchises derived therefrom have been terminated.

(Catalog of Federal Domestic Assistance Program No. 59.11, Small Business Investment Companies)

Dated: October 4, 2001.
Harry E. Haskins,
Acting Associate Administrator for Investment.

[FR Doc. 01-25962 Filed 10-15-01; 8:45 am]

BILLING CODE 8025-01-P